DEPARTMENT OF DEFENSE

Department of the Air Force

U.S. Air Force Exclusive Patent License

AGENCY: Rome, New York, Air Force Research Laboratory Information Directorate, Department of the Air Force, DOD.

ACTION: Notice of intent to issue an exclusive patent license.

SUMMARY: Department of the Air Force announces its intention to grant TWSS, Inc., having a place of business at 4001 Ancestry Circle, Weddington, NC 28104, an exclusive license in any right, title and interest the United States Air Force has in: U.S. Patent No. 10,111,031, issued on October 23, 2018 entitled “OBJECT DETECTION AND TRACKING SYSTEM” and having been filed on January 22, 2016 as U.S. Patent Application 15/003,899.

FOR FURTHER INFORMATION CONTACT: An exclusive license for this patent will be granted unless a written objection is received within fifteen (15) days from the date of publication of this Notice. Written objections should be sent to: Air Force Research Laboratory, Office of the Staff Judge Advocate, AFRL/RIJ, 26 Electronic Parkway, Rome, New York 13441-4514. Telephone: (315) 330-2087; Facsimile (315) 330-7583.

SUPPLEMENTARY INFORMATION: Pursuant to the provisions of part 404 of Title 37, Code of Federal Regulations, which implements Public Law 96-517, as amended, the Department of the Air Force announces its intention to grant TWSS, Inc., having a place of business at 4001 Ancestry Circle, Weddington, NC 28104, an exclusive license in any right, title and interest the United States Air Force has in: U.S. Patent No. 10,111,031, issued on October 23, 2018 entitled “OBJECT DETECTION AND TRACKING SYSTEM” and having been filed on January 22, 2016 as U.S. Patent Application 15/003,899.

Henry Williams,
Acting Air Force Federal Register Liaison Officer.

[FR Doc. 2019-01219 Filed 2-5-19; 8:45 am]

BILLING CODE 5001-10-P